FEDERAL COMMUNICATIONS COMMISSION

47 CFR Part 73

[DA 05-292; MB Docket No. 04-288, RM-11045]

Radio Broadcasting Services; Rhinelander, WI

AGENCY: Federal Communications Commission.

ACTION: Final rule.

SUMMARY: At the request of Results Broadcasting of Rhinelander, Inc., the Audio Division allots Channel 243C3 at Rhinelander, Wisconsin as the community's fourth local transmission service. See 69 FR 48443, August 10, 2004. Channel 243C3 is allotted at Rhinelander with a site restriction of 14.9 kilometers (9.3 miles) east of the community. Because this site is within 320 kilometers (200 miles) of the U.S.-Canadian border, concurrence of the Canadian government has been requested for this allotment. Coordinates for Channel 243C3 at Rhinelander are 45-39-43 NL and 89-13-25 WL. A filing window period for Channel 243C3 for Rhinelander, Wisconsin will not be opened at this time. Instead, the issue of opening this allotment for auction will be addressed by the Commission in a subsequent Order.

DATES: Effective March 21, 2005.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 04-288, adopted February 2, 2005, and released February 4, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

47 CFR part 73 is amended as follows:

PART 73—RADIO BROADCAST SERVICES

1. The authority citation for part 73 continues to read as follows:

Authority: 47 U.S.C. 154, 303, 334 and 336.

§ 73.202 [Amended]

2. Section 73.202(b), the Table of FM Allotments under Wisconsin, is amended by adding Channel 243C3 at Rhinelander.

Federal Communications Commission.
John A. Karousos,
Assistant Chief, Audio Division, Media Bureau.

[FR Doc. 05-3311 Filed 2-18-05; 8:45 am]

BILLING CODE 6712-01-P